DEPARTMENT OF HEALTH AND HUMAN SERVICES

National Institutes of Health

National Eye Institute; Notice of Closing Meetings

Pursuant to section 10(d) of the Federal Advisory Committee Act, as mended (5 U.S.C. Appendix 2), notice is hereby given of the following meetings.

The meetings will be closed to the public in accordance with the provisions set forth in section 552b(c)(6), Title 5 U.S.C., as amended. The grant applications and the discussions could disclose confidential trade secrets or commercial property such as patentable material, and personal information concerning individuals associated with the grant applications, the disclosure of which would constitute a clearly unwarranted invasion of personal privacy.

Name of Committee: National Eye Institute Special Emphasis Panel, NEI Cooperative Agreement Review.

Date: March 6, 2008.

Time: 9 a.m. to 11 a.m.

Agenda: To review and evaluate grant applications.

Place: National Institutes of Health, 5635 Fishers Lane, Bethesda, MD 20892 (Telephone Conference Call).

Contact Person: Houmam H. Araj, PHD, Scientific Review Administrator, Division of Extramural Research, National Eye Institute, NIH, 5635 Fishers Lane, Suite 1300, Bethesda, MD 20892-9602, 301-451-2020, Haraj@mail.nih.gov.

This notice is being published less than 15 days prior to the meetings due to the timing limitations impose by the review and funding cycle.

Name of Committee: National Eye Institute Special Emphasis Panel, NEI Cooperative Agreement Review.

Date: March 20, 2008.

Time: 12 p.m. to 1 p.m.

Agenda: To review and evaluate grant applications.

Place: National Institutes of Health/NEI, 5635 Fishers Lane, Bethesda, MD 20892 (Telephone Conference Call).

Contact Person: Anne E. Schaffner PHD, Scientific Review Administrator, Division of Extramural Research, National Eye Institute, NIH, 5635 Fishers Lane, Suite 1300, MSC 9300, Bethesda, MD 20892-9300, 301-451-2020, aes@nei.nih.gov.

(Catalogue of Federal Domestic Assistance Program Nos. 93.867, Visions Research, National Institutes of Health, HHS)

Dated: February 25, 2008.
Jennifer Spaeth.
Director, Office of Federal Advisory Committee Policy.

[FR Doc. 08-903 Filed 2-29-08; 8:45 am]

BILLING CODE 4140-01-M